DEPARTMENT OF COMMERCE

International Trade Administration

A-570-896

Magnesium Metal from the People's Republic of China: Extension of Time for the Preliminary Results of the Antidumping Duty Administrative Review

AGENCY: Import Administration, International Trade Administration, Department of Commerce.

EFFECTIVE DATE: March 22, 2010.

FOR FURTHER INFORMATION CONTACT: Laurel LaCivita, AD/CVD Operations, Office 8, Import Administration, International Trade Administration, U.S. Department of Commerce, 14th Street and Constitution Avenue, NW, Washington, DC 20230; telephone: (202) 482-4243.

SUPPLEMENTARY INFORMATION:

Background

On April 1, 2009, the Department of Commerce (“the Department”) published in the Federal Register a notice for an opportunity to request an administrative review of the antidumping duty order on magnesium metal from the People's Republic of China (“PRC”).¹ Respondent, Tianjin Magnesium International Co., Ltd. (“TMI”), requested a review on April 27, 2009, and Petitioner, US Magnesium LLC (“US Magnesium”), requested a review of TMI on April 30, 2009. The Department published in the Federal Register a notice of initiation of an administrative review of TMI for the period April 1, 2008, through March 31, 2009.² On December 23, 2009, we extended the deadline for issuing the preliminary results of review for 75 days until March 16, 2010.³ As explained in the memorandum regarding “Tolling of Administrative Deadlines as a Result of the Government Closure During the Recent Snowstorm” from the Deputy Assistant Secretary for Import Administration, the Department has exercised its discretion to toll deadlines for the duration of the closure of the Federal Government from February 5, through February 12, 2010. Thus, all deadlines in this segment of the proceeding have been extended by seven days. The current revised deadline for the preliminary results of this review is now March 23, 2010.⁴

¹ See Antidumping or Countervailing Duty Order, Finding, or Suspended Investigation; Opportunity to Request Administrative Review, 74 FR 14771 (April 1, 2009).

² See Initiation of Antidumping and Countervailing Duty Administrative Reviews, 74 FR 25711 (May 29, 2009).

³ See Magnesium Metal from the People's Republic of China: Extension of Time for the Preliminary Results of the Antidumping Duty Administrative Review, 74 FR 68227 (December 23, 2009).

⁴ See Memorandum to the Record from Ronald Lorentzen, DAS for Import Administration, regarding “Tolling of Administrative Deadlines As a Result of the Government Closure During the Recent Snowstorm,” dated February 12, 2010.

Extension of Time Limit of Preliminary Results

Pursuant to section 751(a)(3)(A) of the Tariff Act of 1930, as amended (“the Act”), the Department shall make a preliminary determination in an administrative review of an antidumping duty order within 245 days after the last day of the anniversary month of the date of publication of the order. The Act further provides, however, that the Department may extend that 245-day period to 365 days if it determines it is not practicable to complete the review within the foregoing time period.

We determine that completion of the preliminary results of this review within the 245-day period is not practicable because the Department requires additional time to analyze information pertaining to the respondent's sales practices, factors of production, and to issue and review responses to supplemental questionnaires. Therefore, we require additional time to complete these preliminary results. As a result, in accordance with section 751(a)(3)(A) of the Act, the Department is extending the time period for completion of the preliminary results of this review by an additional 21 days until April 13, 2010.

This notice is published in accordance with sections 751(a)(3)(A) and 777(i) of the Act.

Dated: March 16, 2010.
John M. Andersen,
Acting Deputy Assistant Secretary for Antidumping and Countervailing Duty Operations.

[FR Doc. 2010-6261 Filed 3-19-10; 8:45 am]

BILLING CODE 3510-DS-S